DEPARTMENT OF EDUCATION

Equity and Excellence Commission Meeting

AGENCY: Office for Civil Rights, U.S. Department of Education.

ACTION: Notice of An Open Meeting.

SUMMARY: This notice sets forth the schedule and proposed agenda of an up-coming meeting of the Equity and Excellence Commission (Commission). The notice also describes the functions of the Commission. Notice of this meeting is required by section 10(a)(2) of the Federal Advisory Committee Act (FACA) and is intended to notify the public of their opportunity to attend.

DATES: March 29, 2012.

Time: 9 a.m. to 4:30 p.m. Eastern Daylight Time.

ADDRESSES: The Commission will meet in Washington, DC at the United States Department of Education at 400 Maryland Avenue SW., Washington, DC 20202, in Room 1W105/108.

FOR FURTHER INFORMATION CONTACT: Jim Eichner, Designated Federal Official, Equity and Excellence Commission, U.S. Department of Education, 400 Maryland Avenue SW., Washington, DC 20202. Email: equitycommission@ed.gov. Telephone: (202) 453-5945.

SUPPLEMENTARY INFORMATION: On March 29, 2012 from 9 a.m. to 4:30 p.m. Eastern Daylight Time, the Equity and Excellence Commission will hold an open meeting in Washington, DC at the United States Department of Education at 400 Maryland Avenue SW., Washington, DC 20202, in Room 1W105/108.

The purpose of the Commission is to collect information, analyze issues, and obtain broad public input regarding how the Federal government can increase educational opportunity by improving school funding equity. The Commission will also make recommendations for restructuring school finance systems to achieve equity in the distribution of educational resources and further student performance, especially for the students at the lower end of the achievement gap. The Commission will examine the disparities in meaningful educational opportunities that give rise to the achievement gap, with a focus on systems of finance, and recommend appropriate ways in which Federal policies could address such disparities.

The agenda for the Commission's March 29, 2012 meeting will include reviewing and editing the Commission's final report. The Commission is also expected to discuss what materials will accompany the final report and the timing of the release of the final report. Due to time constraints, there will not be a public comment period, however, individuals wishing to provide comments related to the Commission may contact the Equity Commission via email at equitycommission@ed.gov. For comments related to the upcoming meeting, please submit comments no later than March 22, 2012.

Individuals interested in attending the meeting must register in advance, as meeting room seating may be limited. Please contact Jim Eichner at (202) 453-5945 or by email at equitycommission@ed.gov. Individuals who will need accommodations for a disability in order to attend the meeting (e.g., interpreting services, assistive listening devices, or materials in alternative format) should notify Jim Eichner at (202) 245-5945 no later than March 22, 2012. We will attempt to meet requests for accommodations after this date but cannot guarantee availability. The meeting site is accessible to individuals with disabilities.

Records are kept of all Commission proceedings and are available for public inspection at the Department of Education, 400 Maryland Avenue SW., Washington, DC 20202 from the hours of 9 a.m. to 5 p.m. Eastern Daylight Time.

Russlynn Ali,
Assistant Secretary, Office for Civil Rights.

[FR Doc. 2012-6189 Filed 3-13-12; 8:45 am]

BILLING CODE 4000-01-P